DEPARTMENT OF LABOR

Mine Safety and Health Administration

Proposed Information Collection Request Submitted for Public Comment and Recommendations; Fire Protection (Underground Coal Mines)

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR Sections 75.1100-3, 75.1103-8, 75.1103-11, 75.1501(a)(3), 75.1502; Fire Protection (Underground Coal Mines) and Mine Emergency Evacuation.

DATES: Submit comments on or before September 4, 2009.

ADDRESSES: Send comments to U.S. Department of Labor, Mine Safety and Health Administration, John Rowlett, Director, Management Services Division, 1100 Wilson Boulevard, Room 2134, Arlington, VA 22209-3939. Commenters are encouraged to send their comments on a computer disk, or via Internet E-mail to Rowlett.John@dol.gov, along with an original printed copy. Mr. Rowlett can be reached at (202) 693-9827 (voice), or (202) 693-9801 (facsimile).

FOR FURTHER INFORMATION CONTACT: Contact the employee listed in the ADDRESSES section of this notice.

SUPPLEMENTARY INFORMATION:

I. Background

Under 30 CFR 75.1100-3, chemical fire extinguishers must be examined every 6 months and the date of the examination recorded on a permanent tag attached to the extinguisher. Under § 75.1103-8, a qualified person must examine the automatic fire sensor and warning device systems on a weekly basis, and must conduct a functional test of the complete system at least once a year. Under § 75.1103-11, each fire hydrant and hose must be tested at least once a year, and the records of those tests shall be kept in an appropriate location. Under § 75.1501(a)(3), the operator must certify that each responsible person is trained and that the certification is maintained at the mine for at least one year. Under § 75.1502, the program of instruction requires revisions to existing fire-fighting and evacuation plans to address emergencies, and requires training of miners regarding the mine emergency evacuation fire-fighting plan for all emergencies created as a result of a fire, an explosion, or a gas or water inundation.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the For Further Information Contact section of this notice, or viewed on the Internet by accessing the MSHA home page (http://www.msha.gov/) and selecting “Rules & Regs”, and then selecting “FedReg.Docs”. On the next screen, select “Paperwork Reduction Act Supporting Statement” to view documents supporting the Federal Register Notice.

III. Current Actions

30 CFR 75.1100-3, 75.1103-8, 75.1103-11, 75.1501(a)(3) and 75.1502 requires chemical fire extinguishers to be examined every 6 months; requires operators to establish a program for the instruction of all miners in the proper fire fighting and evacuation procedures in the event of an emergency; requires operators to conduct fire drills; requires a qualified person to examine the automatic fire sensor and warning device systems; and requires that each fire hydrant and hose be tested; requires the mine operator to train all miners about the requirements of this section and the identity of the responsible person(s) designated by the operator for the work-shift. The operator also is required to instruct miners of any change in the identity of the responsible person before the start of their work-shift and any change during the shift; includes all mine emergencies created as a result of a fire, an explosion, or a gas or water inundation in the program of instruction. This section required revisions to existing fire-fighting and evacuation plans to address these emergencies, required training of miners regarding the mine emergency evacuation fire-fighting plan, and requires that mine operators train miners in any revisions to the plan after its submission to MSHA for approval.

Type of Review: Extension.

Agency: Mine Safety and Health Administration.

Title: Fire Protection (Underground Coal Mines).

OMB Number: 1219-0054.

Frequency: On Occasion.

Affected Public: Business or other for-profit.

Respondents: 622.

Responses: 339,768.

Total Burden Hours: 75,729 hours.

Total Burden Cost (operating/maintaining): $1,344.

Comments submitted in response to this notice will be summarized and/or included in the request for Office of Management and Budget approval of the information collection request; they will also become a matter of public record.

Dated at Arlington, Virginia, this 29th day of June 2009.
John Rowlett,
Director, Management Services Division.

[FR Doc. E9-15792 Filed 7-2-09; 8:45 am]

BILLING CODE 4510-43-P